DEPARTMENT OF THE INTERIOR

Fish and Wildlife Service

50 CFR Part 17

[Docket No. FWS-R1-ES-2010-0071; FF09E21000 FXES1111090FEDR 223]

RIN 1018-BE61

Endangered and Threatened Wildlife and Plants; Designation of Critical Habitat for Slickspot Peppergrass (Lepidium papilliferum); Correction

AGENCY: Fish and Wildlife Service, Interior.

ACTION: Final rule; correction.

SUMMARY: We, the U.S. Fish and Wildlife Service (Service or USFWS), are correcting one amendatory instruction in a final rule that published in the Federal Register on May 4, 2023. That rule finalizes the designation of critical habitat for the threatened slickspot peppergrass (Lepidium papilliferum) under the Endangered Species Act of 1973, as amended (Act).

DATES: Effective June 5, 2023.

FOR FURTHER INFORMATION CONTACT: Lisa Ellis, State Supervisor, U.S. Fish and Wildlife Service, Idaho Fish and Wildlife Office, 1387 S Vinnell Way, Room 368, Boise, ID 83709; telephone 208-378-5243. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

In the final rule that published in the Federal Register on May 4, 2023, at 88 FR 28874, the following correction is made:

§ 17.96 [Corrected]

On page 28905, in the first column, amendment 3 is corrected to read, “3. Amend § 17.96(a) by adding an entry for “Family Brassicaceae: Lepidium papilliferum (slickspot peppergrass)” after the entry for “Family Brassicaceae: Leavenworthia texana (Texas golden gladecress)” to read as follows:”

Susan L. Wilkinson,
Acting Chief, Policy and Regulations Branch, U.S. Fish and Wildlife Service.

[FR Doc. 2023-10089 Filed 5-10-23; 8:45 am]

BILLING CODE 4333-15-P